DEPARTMENT OF LABOR

Employment and Training Administration

[TA-W-39,180]

Art Unlimited, LLC, New Holstein, WI; Notice of Termination of Investigation

Pursuant to section 221 of the Trade Act of 1974, an investigation was initiated on May 7, 2001, in response to a petition filed by a company official on behalf of workers at Art Unlimited, LLC, located in New Holstein, Hurley, and Montreal, Wisconsin.

This case is being terminated because the petitioner was requested that the petition be withdrawn. Consequently, further investigation in this case would serve no purpose, and the investigation has been terminated.

Signed at Washington, DC this 5th day of November, 2001.
Linda G. Poole,
Certifying Officer, Division of Trade Adjustment Assistance.

[FR Doc. 01-28990 Filed 11-19-01; 8:45 am]

BILLING CODE 4510-30-M